DEPARTMENT OF COMMERCE

National Oceanic and Atmospheric Administration

[I.D. 090701D]

Pacific Fishery Management Council; Public Meeting

AGENCY: National Marine Fisheries Service (NMFS), National Oceanic and Atmospheric Administration (NOAA), Commerce.

ACTION: Notice of public meetings.

SUMMARY: The Pacific Fishery Management Council's (Council) Coastal Pelagic Species Management Team (CPSMT) and Coastal Pelagic Species Advisory Subpanel (CPSAS) will hold public meetings.

DATES: The CPSMT will meet on Wednesday, October 10, 2001 from 8 a.m. to 12 p.m. The CPSAS will meet on Wednesday, October 10, 2001 from 1 p.m. until business for the day is completed.

ADDRESSES: Both meetings will be held in the large conference room at the California Department of Fish and Game, 4665 Lampson Avenue, Suite C, Los Alamitos, CA 90720, (562) 342-7100.

Council address: Pacific Fishery Management Council, 7700 NE Ambassador Place, Suite 200, Portland, OR 97220-1384.

FOR FURTHER INFORMATION CONTACT: Dan Waldeck, Pacific Fishery Management Council, (503) 326-6352.

SUPPLEMENTARY INFORMATION: The primary purpose of the CPSMT meeting is to review the Pacific sardine biomass estimate and harvest guideline for 2002. Time permitting, the CPSMT might also discuss details related to Amendment 10 to the coastal pelagic species fishery management plan. The primary purpose of the CPSAS meeting is to review documents developed by the CPSMT, notably the Pacific sardine biomass estimate and recommended harvest guideline for 2002.

Although nonemergency issues not contained in the CPSMT and CPSAS meeting agendas may come before the committees for discussion, those issues may not be the subject of formal action during this meeting. Action will be restricted to those issues specifically listed in this document and any issues arising after publication of this document that require emergency action under section 305(c) of the Magnuson-Stevens Fishery Conservation and Management Act, provided the public has been notified of the CPSMT’s or CPSAS's intent to take final action to address the emergency.

Special Accommodations

The meeting is physically accessible to people with disabilities. Requests for sign language interpretation or other auxiliary aids should be directed to Ms. Carolyn Porter at (503) 326-6352 at least 5 days prior to the meeting date.

Dated: September 7, 2001.
Richard W. Surdi,
Acting Director, Office of Sustainable Fisheries, National Marine Fisheries Service.

[FR Doc. 01-23469 Filed 9-19-01; 8:45 am]

BILLING CODE 3510-22-S